FEDERAL COMMUNICATIONS COMMISSION

47 CFR Part 27

[GN Docket No. 18-122; GN Docket No. 23-97; DA 23-408; FR ID 141458]

Wireless Telecommunications Bureau Announces C-Band Phase II Certification Procedures

AGENCY: Federal Communications Commission.

ACTION: Final action.

SUMMARY: In this document, the Federal Communications Commission (Commission) announces the procedures related to the filing of Phase II Certifications of Accelerated Relocation (Certifications) and implements the Commission's incremental reduction plan for Phase II Accelerated Relocation Payments (ARPs) as part of the ongoing transition of the 3.7 GHz band.

DATES: Effective June 1, 2023.

ADDRESSES: Federal Communications Commission, 45 L St. NE, Washington, DC 20554.

FOR FURTHER INFORMATION CONTACT: For additional information on this proceeding, contact Susan Mort of the Wireless Telecommunications Bureau, at (202) 418-2429 or Susan.Mort@fcc.gov.

SUPPLEMENTARY INFORMATION: This is a summary of the document, Wireless Telecommunications Bureau Announces Procedures for Filing of C-Band Phase II Certifications of Accelerated Relocation and Implementation of the Commission's Incremental Reduction Plan for Phase II Accelerated Relocation Payments, released on May 15, 2023. The full text of this document is available for public inspection online at https://docs.fcc.gov/public/attachments/DA-23-408A1.pdf.

1. With this document, the Bureau adopts filing procedures for the submission of Phase II Certifications, as proposed in C-Band Phase II Certification of Accelerated Relocation Procedures and Implementation of the Commission's Incremental Reduction Plan for Phase II Accelerated Relocation Public Notice (Phase II Certification Procedures and Incremental Reduction Comment PN), released in March 2023 in this proceeding (88 FR 16932, Mar. 21, 2023). These procedures are modeled after those previously adopted for Phase I to allow eligible space station operators to submit Certifications, and stakeholders to file related challenges, with respect to the Phase II migration of incumbent services in this band. The Bureau modified these requirements in response to the record in this proceeding, adopting a standardized Certification format proposed by the eligible space station operators in order to streamline the processing and review of the Certifications. The Bureau adopted June 1, 2023 as the date on which Certifications may be filed. In order to ensure this timeline is satisfied, these rules will be effective on June 1, 2023, rather than 30 days after publication.

2. With respect to the Phase II incremental reduction plan, the Bureau adopted an approach that parallels the Phase I process for calculating the incremental reduction of an eligible space station operator's ARP should it fail to meet the Phase II Accelerated Relocation Deadline, as proposed.

Federal Communications Commission.
Amy Brett,
Acting Chief of Staff, Wireless Telecommunications Bureau.

[FR Doc. 2023-10807 Filed 5-23-23; 8:45 am]

BILLING CODE 6712-01-P